NUCLEAR REGULATORY COMMISSION

[NRC-2020-0200]

Biweekly Notice; Applications and Amendments to Facility Operating Licenses and Combined Licenses Involving no Significant Hazards Considerations

AGENCY: Nuclear Regulatory Commission.

ACTION: Biweekly notice.

SUMMARY: Pursuant to section 189.a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This biweekly notice includes all amendments issued, or proposed to be issued, from August 11, 2020, to August 24, 2020. The last biweekly notice was published on August 25, 2020.

DATES: Comments must be filed by October 8, 2020. A request for a hearing or petitions for leave to intervene must be filed by November 9, 2020.

ADDRESSES: You may submit comments by any of the following methods:

• Federal Rulemaking website: Go to https://www.regulations.gov and search for Docket ID NRC-2020-0200. Address questions about NRC Docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Paula Blechman, Office of Nuclear Reactor Regulation, telephone: 301-415-2242, email: Paula.Blechman@nrc.gov, U.S. Nuclear Regulatory Commission, Washington DC 20555-0001.

SUPPLEMENTARY INFORMATION:

I. Obtaining Information and Submitting Comments

A. Obtaining Information

Please refer to Docket ID NRC-2020-0200, facility name, unit number(s), docket number(s), application date, and subject when contacting the NRC about the availability of information for this action. You may obtain publicly-available information related to this action by any of the following methods:

• Federal Rulemaking website: Go to https://www.regulations.gov and search for Docket ID NRC-2020-0200.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. The ADAMS accession number for each document referenced (if it is available in ADAMS) is provided the first time that it is mentioned in this document.

B. Submitting Comments

Please include Docket ID NRC-2020-0200, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed no Significant Hazards Consideration Determination

For the facility-specific amendment requests shown below, the Commission finds that the licensee's analyses provided, consistent with title 10 of the Code of Federal Regulations (10 CFR) section 50.91, is sufficient to support the proposed determination that these amendment requests involve NSHC. Under the Commission's regulations in 10 CFR 50.92, operation of the facility in accordance with the proposed amendment would not (1) involve a significant increase in the probability or consequences of an accident previously evaluated; or (2) create the possibility of a new or different kind of accident from any accident previously evaluated; or (3) involve a significant reduction in a margin of safety.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves NSHC. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final NSHC determination, any hearing will take place after issuance. The Commission expects that the need to take action on an amendment before 60 days have elapsed will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click “cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The tables below provide the plant name, docket number, date of application, ADAMS accession number, and location in the application of the licensee's proposed NSHC determination. For further details with respect to these license amendment applications, see the application for amendment which is available for public inspection in ADAMS. For additional direction on accessing information related to this document, see the “Obtaining Information and Submitting Comments” section of this document.

Dominion Nuclear Connecticut, Inc.; Millstone Power Station, Unit No. 3; New London County, WI
Docket No(s) | 50-423.
Application Date | August 11, 2020.
ADAMS Accession No | ML20224A457.
Location in Application of NSHC | Pages 18-22 of Attachment 1.
Brief Description of Amendments | The proposed amendment would revise Millstone Unit No. 3 Technical Specification 6.8.4.g, “Steam Generator (SG) Program,” Item d.2, to extend, on a one-time basis, the requirement to inspect each SG at least every 48 effective full power months or every other refueling outage (whichever results in more frequent inspections) for SGs A and C. This extension would allow the licensee to defer the Millstone Unit No. 3 inspections for SGs A and C from the fall of 2020 (Refueling Outage 20) to the spring of 2022 (Refueling Outage 21).
Proposed Determination | NSHC.
Name of Attorney for Licensee, Mailing Address | William S. Blair, Senior Counsel, Dominion Energy, Inc., 120 Tredegar Street, RS-2, Richmond, VA 23219.
NRC Project Manager, Telephone Number | Richard Guzman, 301-415-1030.
Duke Energy Progress, LLC; Brunswick Steam Electric Plant, Units 1 and 2; Brunswick County, NC
Docket No(s) | 50-325, 50-324.
Application Date | July 9, 2020.
ADAMS Accession No. of Application | ML20191A054.
Location in Application of NSHC | Pages 10-12 of Enclosure 1.
Brief Description of Amendment(s) | The proposed amendments would revise the license condition that required using the Brunswick Steam Electric Plant external flood (XF) probabilistic risk assessment model in the categorization process to allow an XF screening evaluation based on proposed modifications which would allow the plant to mitigate the effects of all XF hazards rather than allowing water to enter into structures containing safety-related structures, systems, or components.
Proposed Determination | NSHC.
Name of Attorney for Licensee, Mailing Address | Kathryn B. Nolan, Deputy General Counsel, Duke Energy Corporation, 550 South Tryon Street (DEC45A), Charlotte, NC 28202.
NRC Project Manager, Telephone Number | Andrew Hon, 301-415-8480.
Duke Energy Progress, LLC; Brunswick Steam Electric Plant, Units 1 and 2; Brunswick County, NC
Docket No(s) | 50-325, 50-324.
Application Date | July 21, 2020.
ADAMS Accession No. of Application | ML20203M352.
Location in Application of NSHC | Pages 1-3 of Enclosure 1.
Brief Description of Amendment(s) | The proposed amendments would adopt Technical Specifications Task Force (TSTF)-566, “Revise Actions for Inoperable RHR [Residual Heat Removal] Shutdown Cooling Subsystems.”
Proposed Determination | NSHC.
Name of Attorney for Licensee, Mailing Address | Kathryn B. Nolan, Deputy General Counsel, Duke Energy Corporation, 550 South Tryon Street (DEC45A), Charlotte, NC 28202.
NRC Project Manager, Telephone Number | Andrew Hon, 301-415-8480.
Duke Energy Progress, LLC; Brunswick Steam Electric Plant, Units 1 and 2; Brunswick County, NC
Docket No(s) | 50-325, 50-324.
Application Date | July 27, 2020.
ADAMS Accession No. of Application | ML20209A551.
Location in Application of NSHC | Pages 1-3 of Enclosure 1.
Brief Description of Amendment(s) | The proposed amendments would adopt Technical Specifications Task Force (TSTF)-568 to revise the applicability and actions of the technical specifications related to primary containment oxygen concentration.
Proposed Determination | NSHC.
Name of Attorney for Licensee, Mailing Address | Kathryn B. Nolan, Deputy General Counsel, Duke Energy Corporation, 550 South Tryon Street (DEC45A), Charlotte, NC 28202.
NRC Project Manager, Telephone Number | Andrew Hon, 301-415-8480.
NextEra Energy Seabrook, LLC; Seabrook Station, Unit No. 1; Rockingham County, NH
Docket No(s) | 50-443.
Application Date | July 13, 2020.
ADAMS Accession No. of Application | ML20196L772.
Location in Application of NSHC | Pages 12 and 13 of the Enclosure.
Brief Description of Amendment(s) | The proposed amendment would extend the allowed outage time for one emergency diesel generator inoperable from 14 days to 30 days on a one-time basis. The one-time license amendment is necessary to perform planned maintenance on the B emergency diesel generator while at power.
Proposed Determination | NSHC.
Name of Attorney for Licensee, Mailing Address | Debbie Hendell, Managing Attorney—Nuclear, Florida Power & Light Company, 700 Universe Blvd., MS LAW/JB, Juno Beach, FL 33408-0420.
NRC Project Manager, Telephone Number | Justin Poole, 301-415-2048.
Tennessee Valley Authority; Browns Ferry Nuclear Plant, Units 1, 2, and 3; Limestone County, AL
Docket No(s) | 50-259, 50-260, 50-296.
Application Date | July 17, 2020.
ADAMS Accession No. of Application | ML20199M373.
Location in Application of NSHC | Pages E1-21 and E1-22 of Enclosure 1.
Brief Description of Amendment(s) | The proposed amendments would allow for the voluntary adoption of the requirements of Section 50.69, “Risk-informed categorization and treatment of structures, systems and components for nuclear power reactors,” of 10 CFR.
Proposed Determination | NSHC.
Name of Attorney for Licensee, Mailing Address | Sherry Quirk, Executive VP and General Counsel, Tennessee Valley Authority, 400 West Summit Hill Drive, WT 6A, Knoxville, TN 37902.
NRC Project Manager, Telephone Number | Michael Wentzel, 301-415-6459.
Tennessee Valley Authority; Browns Ferry Nuclear Plant, Units 1, 2, and 3; Limestone County, AL, Tennessee Valley Authority; Sequoyah Nuclear Plant, Units 1 and 2; Hamilton County, TN, Tennessee Valley Authority; Watts Bar Nuclear Plant, Units 1 and 2; Rhea County, TN
Docket No(s) | 50-259, 50-260, 50-296, 50-327, 50-328, 50-390, 50-391.
Application Date | August 14, 2020.
ADAMS Accession No. of Application | ML20230A210.
Location in Application of NSHC | Pages E4-E5 of the Enclosure.
Brief Description of Amendment(s) | The proposed amendments would revise the technical specifications (TS) for Browns Ferry Nuclear Plant, Units 1, 2, and 3; Sequoyah Nuclear Plant, Units 1 and 2; and Watts Bar Nuclear Plant, Units 1 and 2, to remove the tables of contents from the TSs and place them under licensee control. In addition, the proposed amendments would make two other administrative changes to the Sequoyah Nuclear Plant, Units 1 and 2; and Watts Bar Nuclear Plant, Units 1 and 2 TSs.
Proposed Determination | NSHC.
Name of Attorney for Licensee, Mailing Address | Sherry Quirk, Executive VP and General Counsel, Tennessee Valley Authority, 400 West Summit Hill Drive, WT 6A, Knoxville, TN 37902.
NRC Project Manager, Telephone Number | Michael Wentzel, 301-415-6459.
Tennessee Valley Authority; Browns Ferry Nuclear Plant, Units 1, 2, and 3; Limestone County, AL, Tennessee Valley Authority; Sequoyah Nuclear Plant, Units 1 and 2; Hamilton County, TN, Tennessee Valley Authority; Watts Bar Nuclear Plant, Units 1 and 2; Rhea County, TN
Docket No(s) | 50-259, 50-260, 50-296, 50-327, 50-328, 50-390, 50-391.
Application Date | July 31, 2020.
ADAMS Accession No. of Application | ML20213C730.
Location in Application of NSHC | Pages E9-E11 of the Enclosure.
Brief Description of Amendment(s) | The proposed amendments would revise the Tennessee Valley Authority Fleet Radiological Emergency Plan to change the requirement from having an on-shift emergency medical technician to a requirement for an on-shift emergency medical professional. Additionally, the proposed amendments would remove the requirement for an onsite ambulance at each site.
Proposed Determination | NSHC.
Name of Attorney for Licensee, Mailing Address | Sherry Quirk, Executive VP and General Counsel, Tennessee Valley Authority, 400 West Summit Hill Drive, WT 6A, Knoxville, TN 37902.
NRC Project Manager, Telephone Number | Michael Wentzel, 301-415-6459.
Tennessee Valley Authority; Watts Bar Nuclear Plant, Unit 1; Rhea County, TN
Docket No(s) | 50-390.
Application Date | July 17, 2020.
ADAMS Accession No. of Application | ML20199M346.
Location in Application of NSHC | Pages E1-23 and E1 24 of Enclosure 1 and pages E2-3 and E2-4 of Enclosure 2.
Brief Description of Amendment(s) | The proposed amendment would revise the Watts Bar Nuclear Plant, Unit 1 technical specifications to change the required steam generator tube inspection frequency from every 72 effective full power months (EFPM) to every 96 EFPM and to incorporate Technical Specifications Task Force (TSTF) Technical Change Traveler TSTF-510, Revision 2, “Revision to Steam Generator Program Inspection Frequencies and Tube Sample Selection.”.
Proposed Determination | NSHC.
Name of Attorney for Licensee, Mailing Address | Sherry Quirk, Executive VP and General Counsel, Tennessee Valley Authority, 400 West Summit Hill Drive, WT 6A, Knoxville, TN 37902.
NRC Project Manager, Telephone Number | Kimberly Green, 301-415-1627.
Tennessee Valley Authority; Watts Bar Nuclear Plant, Unit 2; Rhea County, TN
Docket No(s) | 50-391.
Application Date | July 27, 2020.
ADAMS Accession No. of Application | ML20209A071.
Location in Application of NSHC | Pages E21-E22 of the Enclosure.
Brief Description of Amendment(s) | The proposed amendment would revise the Watts Bar Nuclear Plant, Unit technical specifications to add WCAP-18124-NP-A, Revision 0, “Fluence Determination with RAPTOR-M3G and FERRET,” as the neutron fluence calculational methodology.
Proposed Determination | NSHC.
Name of Attorney for Licensee, Mailing Address | Sherry Quirk, Executive VP and General Counsel, Tennessee Valley Authority, 400 West Summit Hill Drive, WT 6A, Knoxville, TN 37902.
NRC Project Manager, Telephone Number | Kimberly Green, 301-415-1627.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action, see (1) the application for amendment; (2) the amendment; and (3) the Commission's related letter, Safety Evaluation, and/or Environmental Assessment as indicated. All of these items can be accessed as described in the “Obtaining Information and Submitting Comments” section of this document.

Duke Energy Carolinas, LLC; Catawba Nuclear Station, Units 1 and 2; York County, SC
Docket No(s) | 50-413, 50-414.
Amendment Date | August 4, 2020.
ADAMS Accession No. of Issuance of Amendment Letter | ML20174A045.
Amendment No(s) | 306 (Unit 1) and 302 (Unit 2).
Brief Description of Amendment(s) | The amendments revised Technical Specification 3.4.3, “RCS [Reactor Coolant System] Pressure and Temperature (P/T) Limits.”
Energy Harbor Nuclear Corp. and Energy Harbor Nuclear Generation LLC; Davis-Besse Nuclear Power Station, Unit No. 1; Ottawa County, OH
Docket No(s) | 50-346.
Amendment Date | August 24, 2020.
ADAMS Accession No. of Issuance of Amendment Letter | ML20213C726.
Amendment No(s) | 300.
Brief Description of Amendment(s) | The amendment revised the technical specifications to require the use of Nuclear Energy Institute (NEI) topical report NEI 94-01, Revision 3-A, “Industry Guideline for Implementing Performance-Based Option of 10 CFR Part 50, Appendix J” (ADAMS Accession No. ML12221A202), and the limitations and conditions specified in NEI 94-01, Revision 2-A (ADAMS Accession No. ML100620847), for Type A and Type B containment leak rate testing. The amendment permits the Type A test interval to be extended to 15 years based on acceptable performance history, as defined in NEI 94-01, Revision 3-A.
Exelon FitzPatrick, LLC and Exelon Generation Company, LLC; James A FitzPatrick Nuclear Power Plant; LLC; Oswego County, NY
Docket No(s) | 50-333.
Amendment Date | August 20, 2020.
ADAMS Accession No. of Issuance of Amendment Letter | ML20169A510.
Amendment No(s) | 339.
Brief Description of Amendment(s) | The amendment revised the Technical Specifications (TSs) related to primary containment hydrodynamic loads. Specifically, the amendment removed TS 3.6.2.4, “Drywell-to-Suppression Chamber Differential Pressure,” in its entirety; revised suppression pool water upper level from 14 feet to 14.25 feet; and revised the allowable value for suppression pool water level—high, from 14.5 feet to 14.75 feet.
Exelon Generation Company, LLC; Calvert Cliffs Nuclear Power Plant, Units 1 and 2; Calvert County, MD
Docket No(s) | 50-317, 50-318.
Amendment Date | August 13, 2020.
ADAMS Accession No. of Issuance of Amendment Letter | ML20182A194.
Amendment No(s) | 336 (Unit 1) and 314 (Unit 2).
Brief Description of Amendment(s) | The amendments revised certain inspection requirements in Technical Specification 5.5.7, “Reactor Coolant Pump Flywheel Inspection Program.”
Nebraska Public Power District; Cooper Nuclear Station; Nemaha County, NE
Docket No(s) | 50-298.
Amendment Date | August 18, 2020.
ADAMS Accession No. of Issuance of Amendment Letter | ML20191A273.
Amendment No(s) | 266.
Brief Description of Amendment(s) | The amendment revised Cooper Nuclear Station Technical Specification 5.5.12, “Primary Containment Leakage Rate Testing Program,” to allow for an exception from certain leak rate testing interval requirements of the program.
Southern Nuclear Operating Company, Inc.; Edwin I Hatch Nuclear Plant, Units 1 and 2; Appling County, GA
Docket No(s) | 50-321, 50-366.
Amendment Date | June 11, 2020.
ADAMS Accession No. of Issuance of Amendment Letter | ML20066F592.
Amendment No(s) | 304 (Unit 1), 249 (Unit 2).
Brief Description of Amendment(s) | The amendments transitioned the Hatch Fire Protection Program from 10 CFR Sections 50.48(a) and (b) to 10 CFR 50.48(c), National Fire Protection Association (NFPA) 805, “Performance-Based Standard for Fire Protection for Light Water Reactor Electric Generating Plants,” 2001 Edition.
Southern Nuclear Operating Company, Inc.; Vogtle Electric Generating Plant, Units 3 and 4; Burke County, GA
Docket No(s) | 52-025, 52-026.
Amendment Date | August 11, 2020.
ADAMS Accession No. of Issuance of Amendment Letter | ML20196L674.
Amendment No(s) | 183, 181.
Brief Description of Amendment(s) | The amendments consisted of changes to the following Technical Specifications (TS): (A) Surveillance Requirement (SR) 3.7.6.3 frequency revised for Main Control Room Emergency Habitability System (VES) operation and deleted SR 3.7.6.9 which verifies the self-contained pressure regulating valve in each VES air delivery flow path is operable in accordance with the Inservice Testing Program; (B) SR 3.3.8.2 for channel calibration and SR 3.3.8.3 for engineered safety feature response time revised to include a Note excluding neutron detectors; (C) TS 5.5.3, “Inservice Testing Program,” revised to replace existing detail with a reference to fulfilling the requirements of 10 CFR 50.55a(f); (D) TS 5.5.9, “System Level OPERABILITY Testing Program,” revised for appropriate wording consistency and appropriate reference to the Updated Final Safety Analysis Report; and (E) TS 3.4.9, “RCS [Reactor Coolant System] Leakage Detection Instrumentation,” Applicability Note 2 revised to consistently identify the applicable power level.
Tennessee Valley Authority; Watts Bar Nuclear Plant, Unit 2; Rhea County, TN
Docket No(s) | 50-391.
Amendment Date | August 10, 2020.
ADAMS Accession No. of Issuance of Amendment Letter | ML20156A018.
Amendment No(s) | 40.
Brief Description of Amendment(s) | The amendment revised Watts Bar Nuclear Plant, Unit 2, Technical Specification (TS) 3.4.17, “Steam Generator (SG) Tube Integrity”; TS 5.7.2.12, “Steam Generator (SG) Program”; and TS 5.9.9, “Steam Generator Tube Inspection Report,” to allow the use of Westinghouse leak limiting non-nickel banded Alloy 800 sleeves to repair degraded SG tubes as an alternative to plugging the tubes.
Tennessee Valley Authority; Watts Bar Nuclear Plant, Units 1 and 2; Rhea County, TN
Docket No(s) | 50-390, 50-391.
Amendment Date | August 19, 2020.
ADAMS Accession No. of Issuance of Amendment Letter | ML20167A148.
Amendment No(s) | 136 (Unit 1) and 41 (Unit 2).
Brief Description of Amendment(s) | The amendments deleted Technical Specification 3.8.1, “AC [Alternating Current] Sources—Operating,” Surveillance Requirement 3.8.1.22 to verify the operability of the automatic transfer from a Unit Service Station Transformer to a Common Station Service Transformer A or B at the associated unit board.

Dated: August 28, 2020.
For the Nuclear Regulatory Commission.
Gregory F. Suber,
Deputy Director, Division of Operating Reactor Licensing, Office of Nuclear Reactor Regulation.

[FR Doc. 2020-19416 Filed 9-4-20; 8:45 am]

BILLING CODE 7590-01-P